DEPARTMENT OF THE INTERIOR

Bureau of Land Management

[WO-320-1990-PB-24 1A]

Extension of Approved Information Collection, OMB Approval Number 1004-0025

AGENCY: Bureau of Land Management, Interior.

ACTION: Notice and request for comments.

SUMMARY: In accordance with the Paperwork Reduction Act of 1995, the Bureau of Land Management (BLM) requests the Office of Management and Budget (OMB) to extend an existing approval to collection information from all owners of unpatented mining claims or mill sites who desire to apply for a mineral patent to their mining claim or mill site. The BLM uses the information to determine the right to a mineral patent and to secure a settlement of all disputes concerning the property in order to issue the patent to the rightful owner.

DATES: You must submit your comments to BLM at the address below on or before September 24, 2002. BLM will not necessarily consider any comments received after the above date.

ADDRESSES: You may mail comments to: Regulatory Affairs Group (WO-630), Eastern States Office, 7450 Boston Blvd., Springfield, Virginia 22153.

You may send comments via Internet to: WOComment@blm.gov. Please include “ATTN: 1004-0025” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Roger A. Haskins, Solid Minerals Group, on (202) 452-0355 (Commercial or FTS). Persons who use a telecommunication device for the deaf (TDD) may call the Federal Information Relay Service (FIRS) on 1-800-877-8330, 24 hours a day, seven days a week, to contact Mr. Haskins.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use:

(c) Ways to enhance the quality, utility, and clarity of the information collected; and

(d) Ways to minimize the information collection burden on those who are to respond, including the use of appropriate automated, electronic, mechanical, or other technological collection techniques or other forms of information technology.

Under the General Mining Law (30 U.S.C. 29, 30, and 39), we grant the opportunity to obtain legal title (patent) to the land of those who explore for and locate valuable mineral deposits on the public domain lands. BLM implements the patent process under regulations 43 CFR 3860. Under 43 CFR 3870, any rival claimant with overlapping claims to the land applied for or anyone challenging BLM to issue the patent based on failure to follow the law or regulations must file with BLM certain required statements and evidence supporting the challenge or we will statutorily dismiss the challenge. The implementing regulations require a patent applicant to provide the following information:

(1) Mineral survey application. Under 43 CFR Subpart 3861, the holder of a claim must submit to BLM a mineral survey for all lode claims, most mill sites, and placer claims located upon surveyed public lands, as a requisite to apply for a patent. BLM uses Form 3860-5 to collect the mining claim or site recording, chain-of-title, and geographic location information so that we can authorize a Deputy U.S. Mineral Surveyor to survey the claims or sites.

(2) Mineral patent application. Under 43 CFR 3862, 3863, and 3864, a mineral patent applicant must file certain proofs of ownership to demonstrate clear title to the claim(s) or millsite(s), bonafide of development, and the existence of a commercial mineral deposit subject to the General Mining Law of 1872, as amended. BLM used Form 3860-2 for title verification until Congress implemented a moratorium on new mineral patent applications.

Based on BLM's experience administering the General Mining Law, we estimate the public reporting burden to complete Form 3860-5 is one hour and for adverse claims or protests it is two hours. BLM estimates that we receive 30 mineral survey applications and 10 protests annually, with a total annual burden of 50 hours. The respondents are owners of unpatented mining claims and mill sites upon the public lands, reserved mineral lands of the United States, National Forests, and National Parks. The frequency of response is once for each mineral survey, each application for patent, and each filing of a protest or adverse claim. Since October 1, 1994, Congress has passed an annual moratorium which prevents the BLM for processing mineral patent applications unless the applications were grandfathered under the initial legislation. This moratorium does not affect mineral surveys, contests, or protests to existing mineral patent applications.

Any member of the public may request and obtain, without charge, a copy of BLM Form 3860-5 by contacting the person identified under FOR FURTHER INFORMATION CONTACT.

BLM will summarize all responses to this notice and include them in the request for OMB approval. All comments will become a matter of a public record.

Dated: July 9, 2002.
Michael H. Schwartz,
Bureau of Land Management, Information Collection Clearance Officer.

[FR Doc. 02-18889 Filed 7-25-02; 8:45 am]

BILLING CODE 4310-84-M